DEPARTMENT OF TRANSPORTATION

Federal Aviation Administration

14 CFR Part 95

[Docket No. 30859; Amdt. No. 502]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, September 20, 2012.

FOR FURTHER INFORMATION CONTACT: Rick Dunham, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125), telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on August 17, 2012.
John M. Allen,
Deputy Director, Flight Standards Service.

Adoption of the Amendment

Accordingly, pursuant to the authority delegated to me by the Administrator, part 95 of the Federal Aviation Regulations (14 CFR part 95) is amended as follows effective at 0901 UTC, July 26, 2012.

1. The authority citation for part 95 continues to read as follows:

Authority: 49 U.S.C. 106(g), 40103, 40106, 40113, 40114, 40120, 44502, 44514, 44719, 44721.

2. Part 95 is amended to read as follows:

Revisions to IFR Altitudes & Changeover Points
[Amendment 502 effective date September 20, 2012]
From | To | MEA | MAA
§ 95.3000 Low Altitude RNAV Routes
§ 95.3310 RNAV Route T310 Is Amended To Read in Part
Tucson, AZ VORTAC | **Sulli, AZ FIX | *8000 | 17500
**9200—MCA Sulli, AZ FIX, E BND
*7200—MOCA

From | To | MEA
§ 95.6001 Victor Routes-U.S.
§ 95.6001 VOR Federal Airway V1 Is Amended To Read in Part
Hartford, CT VOR/DME | Dvany, CT FIX | 3000
Dvany, CT FIX | Graym, MA FIX | *4000
*2500—MOCA
§ 95.6003 VOR Federal Airway V3 Is Amended To Read in Part
Palm Beach, FL VORTAC | Treasure, FL VORTAC | *3000
*2100—MOCA
Treasure, FL VORTAC | Melbourne, FL VOR/DME | 2000
§ 95.6004 VOR Federal Airway V4 Is Amended to Read in Part
Louisville, KY VORTAC | Lexington, KY VORTAC | 2800
§ 95.6010 VOR Federal Airway V10 Is Amended To Read in Part
Emporia, KS VORTAC | Wetzl, KS FIX | *5000
*2600—MOCA
*3000—GNSS MEA
Wetzl, KS FIX | Napoleon, MO VORTAC | 3100
§ 95.6012 VOR Federal Airway V12 Is Amended To Read in Part
Emporia, KS VORTAC | Wetzl, KS FIX | *5000
*2600—MOCA
*3000—GNSS MEA
Wetzl, KS FIX | Napoleon, MO VORTAC | 3100
§ 95.6026 VOR Federal Airway V26 Is Amended To Read in Part
Cherokee, WY VOR/DME | Alcos, WY FIX | 11700
Alcos, WY FIX | Muddy Mountain, WY VOR/DME | *10000
*9400—MOCA
§ 95.6027 VOR Federal Airway V27 Is Amended To Read in Part
Fortuna, CA VORTAC | Crescent City, CA VORTAC | 3000
§ 95.6035 VOR Federal Airway V35 Is Amended To Read in Part
Holston Mountain, TN VORTAC | Glade Spring, VA VOR/DME | 6700
§ 95.6037 VOR Federal Airway V37 Is Amended To Read in Part
Clarksburg, WV VOR/DME | Tedds, WV FIX | *4000
*3400—MOCA
Tedds, WV FIX | Cetpu, PA FIX | *5000
*3400—MOCA
*4000—GNSS MEA
Cetpu, PA FIX | Ellwood City, PA VORTAC | *4000
*3200—MOCA
§ 95.6051 VOR Federal Airway V51 Is Amended To Read in Part
*Sheds, FL FIX | Treasure, FL VORTAC | **2000
*3000—MRA
**1400—MOCA
Treasure, FL VORTAC | Ovido, FL FIX | *4000
*2800—MOCA
§ 95.6053 VOR Federal Airway V53 Is Amended To Read in Part
Lexington, KY VORTAC | Louisville, KY VORTAC | 2800
§ 95.6054 VOR Federal Airway V54 Is Amended To Read in Part
Fayetteville, NC VOR/DME | Kinston, NC VORTAC | *2000
*1900—MOCA
§ 95.6066 VOR Federal Airway V66 Is Amended To Read in Part
Anima, NM FIX | Darce, NM FIX | 9000
§ 95.6068 VOR Federal Airway V68 Is Amended To Read in Part
Chisum, NM VORTAC | Hager, NM FIX | 6000
§ 95.6070 VOR Federal Airway V70 Is Amended To Read in Part
Wilmington, NC VORTAC | Beula, NC FIX | *8000
*1600—MOCA
*2000—GNSS MEA
§ 95.6094 VOR Federal Airway V94 Is Amended To Read in Part
Blythe, CA VORTAC | *Vicko, AZ FIX | 6000
*9000—MRA
§ 95.6114 VOR Federal Airway V114 Is Amended To Read in Part
Gregg County, TX VORTAC | Carth, TX FIX | *2300
*1900—MOCA
Covex, LA FIX | Nuboy, LA FIX | *5000
*1900—MOCA
Nuboy, LA FIX | Alexandria, LA VORTAC
| W BND | 5000
| E BND | 2000
§ 95.6121 VOR Federal Airway V121 Is Amended To Read in Part
Roseburg, OR VOR/DME | North Bend, OR VORTAC | 5300
§ 95.6133 VOR Federal Airway V133 Is Amended To Read in Part
*Traverse City, MI VORTAC | Escanaba, MI VOR/DME | 5000
*Traverse City R-301—R-002 | Unusable BYD 10 NM BLO | 5000
§ 95.6144 VOR Federal Airway V144 Is Amended To Read in Part
Fort Wayne, IN VORTAC | Buzzi, OH FIX | *6000
*3000—MOCA
§ 95.6152 VOR Federal Airway V152 Is Amended To Read in Part
Kizer, FL FIX | Ormond Beach, FL VORTAC
*2800—MOCA | NE BND | *3600
| SW BND | *5000
§ 95.6157 VOR Federal Airway V157 Is Amended To Read in Part
Fayetteville, NC VOR/DME | Kinston, NC VORTAC | *2000
*1900—MOCA
§ 95.6159 VOR Federal Airway V159 Is Amended To Read in Part
Jupem, FL FIX | Treasure, FL VORTAC | 2600
Treasure, FL VORTAC | *Presk, FL FIX | 3000
*2500—MRA
Walnut Ridge, AR VORTAC | Dogwood, MO VORTAC | *3400
*3000—MOCA
§ 95.6184 VOR Federal Airway V184 Is Amended To Read in Part
Atlantic City, NJ VORTAC | Panze, NJ FIX | 2100
§ 95.6190 VOR Federal Airway V190 Is Amended To Read in Part
Marion, IL VOR/DME | Pocket City, IN VORTAC | *5000
*2000—MOCA
*2300—GNSS MEA
§ 95.6193 VOR Federal Airway V193 Is Amended To Read in Part
White Cloud, MI VOR/DME | Traverse City, MI VORTAC | *4000
*Traverse City R-188—R-207 | Unusable BYD 10 NM BLO | 4000
§ 95.6203 VOR Federal Airway V203 Is Amended To Read in Part
Dinny, NY FIX | Saranac Lake, NY VOR/DME | 7000
**Saranac Lake, NY VOR/DME | **Massena, NY VORTAC | *10000
*5100—MOCA
*6000—GNSS MEA
**Massena R-159 Unusable, Use Saranac Lake R-339
§ 95.6213 VOR Federal Airway V213 Is Amended To Read in Part
Wilmington, NC VORTAC | Wallo, NC FIX | *8000
*1600—MOCA
*5000—GNSS MEA
Wallo, NC FIX | Josch, NC FIX
*1700—MOCA | S BND | *8000
*2000—GNSS MEA | N BND | *6000
Josch, NC FIX | Ester, NC FIX
*1700—MOCA | S BND | *6000
*2000—GNSS MEA | N BND | *3000
§ 95.6225 VOR Federal Airway V225 Is Amended To Read in Part
Diddy, FL FIX | Treasure, FL VORTAC | 2000
§ 95.6229 VOR Federal Airway V229 Is Amended To Read in Part
Atlantic City, NJ VORTAC | Panze, NJ FIX | 2100
Hartford, CT VOR/DME | Gardner, MA VOR/DME | 3000
§ 95.6232 VOR Federal Airway V232 Is Amended To Read in Part
Keating, PA VORTAC | Watso, PA FIX | 4700
Watso, PA FIX | Milton, PA VORTAC | *4000
*2900—MOCA
Milton, PA VORTAC | Solberg, NJ VOR/DME | 4000
Solberg, NJ VOR/DME | Tykes, NJ FIX | 2300
Tykes, NJ FIX | Colts Neck, NJ VOR/DME | 2000
§ 95.6265 VOR Federal Airway V265 Is Amended To Read in Part
Jamestown, NY VOR/DME | *Dunkirk, NY VORTAC | 4000
*3400—MCA Dunkirk, NY VORTAC, S BND
Dunkirk, NY VORTAC | U.S. Canadian Border | *3400
*2000—MOCA
§ 95.6285 VOR Federal Airway V285 Is Amended To Read in Part
Manistee, MI VOR/DME | *Traverse City, MI VORTAC | *2800
*Traverse City R-228—R260 | Unusable BYD 10 NM BLO | 4000
§ 95.6295 VOR Federal Airway V295 Is Amended To Read in Part
Stoop, FL FIX | Treasure, FL VORTAC | 2000
Treasure, FL VORTAC | Orlando, FL VORTAC | *2600
*1600—MOCA
§ 95.6320 VOR Federal Airway V320 Is Amended To Read in Part
*Traverse City, MI VORTAC | Mount Pleasant, MI VOR/DME | *5000
*Traverse City R-077—R-187 | Unusable BYD 10 NM BLO | 5000
§ 95.6370 VOR Federal Airway V370 Is Amended To Read in Part
Bands, CA FIX | *Palm Springs, CA VORTAC | 13000
*11800—MCA Palm Springs, CA VORTAC, W BND
*6200—MCA Palm Springs, CA VORTAC, N BND
§ 95.6402 VOR Federal Airway V402 Is Amended To Read in Part
Tucumcari, NM VORTAC | Moser, TX FIX | 6300
Moser, TX FIX | Panhandle, TX VORTAC | *6000
*5500—MOCA
§ 95.6418 VOR Federal Airway V418 Is Amended To Read in Part
Salem, MI VORTAC | Bewel, OH FIX | #*4000
*2700—MOCA
#For That Airspace Over U.S. Territory.
§ 95.6420 VOR Federal Airway V420 Is Amended To Read in Part
Green Bay, WI VORTAC | *Traverse City, MI VORTAC | 3500
*Traverse City R-261—R-300 | Unusable BYD 10 NM BLO | 3500
§ 95.6429 VOR Federal Airway V429 Is Amended To Read in Part
Marion, IL VOR/DME | Bible Grove, IL VORTAC | *5000
*2100—MOCA
*2300—GNSS MEA
§ 95.6437 VOR Federal Airway V437 Is Amended To Read in Part
Melbourne, FL VOR/DME | Awiny, FL FIX | *3000
*1600—MOCA
Awiny, FL FIX | Ovido, FL FIX
| NW BND | 5000
| SE BND | 3000
Ovido, FL FIX | Kizer, FL FIX | *5000
*2800—MOCA
Kizer, FL FIX | Ormond Beach, FL VORTAC
*2800—MOCA | SW BND | *5000
| NE BND | *3600
§ 95.6508 VOR Federal Airway V508 Is Amended To Delete
Rugbb, KS FIX | Johnson County, KS VOR/DME | 2600
§ 95.6537 VOR Federal Airway V537 Is Amended To Read in Part
Stoop, FL FIX | Treasure, FL VORTAC | 2000
Treasure, FL VORTAC | *Presk, FL FIX | 3000
*2500—MRA
§ 95.6566 VOR Federal Airway V566 Is Amended To Read in Part
Knelt, LA FIX | Covex, LA FIX | *3500
*1800—MOCA
Covex, LA FIX | Nuboy, LA FIX | *5000
*1900—MOCA
Nuboy, LA FIX | Alexandria, LA VORTAC
| W BND | 5000
| E BND | 2000
§ 95.6589 VOR Federal Airway V589 Is Amended To Read in Part
Medicine Bow, WY VOR/DME | Alcos, WY FIX | 10100
Alcos, WY FIX | Muddy Mountain, WY VOR/DME | *10000
*9400—MOCA
§ 95.6438 Alaska VOR Federal Airway V438 Is Amended To Read in Part
Big Lake, AK VORTAC | *Sures, AK FIX | 7500
*10000—MRA
Sures, AK FIX | Liber, AK FIX | #**10000
**8900—MOCA
#MEA is established with a gap in navigation signal coverage.

From | To | MEA | MAA
§ 95.7001 Jet Routes
§ 95.7045 Jet Route J45 Is Amended To Read in Part
Virginia Key, FL VOR/DME | Treasure, FL VORTAC | 18000 | 45000
Treasure, FL VORTAC | Ormond Beach, FL VORTAC | 18000 | 45000
§ 95.7075 Jet Route J75 Is Amended To Read in Part
*Carmel, NY VOR/DME | *Nelie, CT FIX | 18000 | 45000
*Radar required between Carmel and Nelie
Nelie, CT FIX | Boston, MA VOR/DME | 18000 | 45000
§ 95.7079 Jet Route J79 Is Amended To Read in Part
Palm Beach, FL VORTAC | Treasure, FL VORTAC | 18000 | 45000
Treasure, FL VORTAC | Ormond Beach, FL VORTAC | 18000 | 45000

Airway Segment: From | Airway Segment: To | Changeover Points: Distance | Changeover Points: From
§ 95.8003 VOR Federal Airway Changeover Points
V10 Is Amended To Delete Changeover Point
Emporia, KS VORTAC | Johnson County, KS VOR/DME | 49 | Emporia
V12 Is Amended To Delete Changeover Point
Emporia, KS VORTAC | Johnson County, KS VOR/DME | 49 | Emporia
V159 Is Amended To Delete Changeover Point
Treasure, FL VORTAC | Orlando, FL VORTAC | 32 | Treasure
V203 Is Amended To Delete Changeover Point
Saranac Lake, NY VOR/DME | Massena, NY VORTAC | 11 | Saranac Lake
V26 Is Amended To Add Changeover Point
Montrose, CO VOR/DME | Grand Junction, CO VOR/DME | 23 | Montrose
V27 Is Amended To Delete Changeover Point
Fortuna, CA VORTAC | Crescent City, CA VORTAC | 30 | Fortuna
V285 Is Amended To Add Changeover Point
Manistee, MI VOR/DME | Traverse City, MI VORTAC | 29 | Manistee

[FR Doc. 2012-20812 Filed 8-22-12; 8:45 am]

BILLING CODE 4910-13-P